DEPARTMENT OF TRANSPORTATION

Federal Aviation Administration

14 CFR Part 39

[Docket No. FAA-2020-0916; Product Identifier 2015-SW-055-AD; Amendment 39-21449; AD 2021-05-06]

RIN 2120-AA64

Airworthiness Directives; Airbus Helicopters

AGENCY: Federal Aviation Administration (FAA), DOT.

ACTION: Final rule.

SUMMARY: The FAA is adopting a new airworthiness directive (AD) for Airbus Helicopters Model AS332C, AS332C1, AS332L, AS332L1, AS332L2, EC 155B, EC155B1, EC225LP, and SA330J helicopters. This AD requires inspecting the snap fasteners on the windows. This AD was prompted by incidents of difficulty unbuttoning the extraction tape on the windows. The actions of this AD are intended to address an unsafe condition on these products.

DATES: This AD is effective April 19, 2021.

The Director of the Federal Register approved the incorporation by reference of certain documents listed in this AD as of April 19, 2021.

ADDRESSES: For service information identified in this final rule, contact Airbus Helicopters, 2701 N Forum Drive, Grand Prairie, TX 75052; telephone (972) 641-0000 or (800) 232-0323; fax (972) 641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2020-0916.

Examining the AD Docket

You may examine the AD docket on the internet at https://www.regulations.gov by searching for and locating Docket No. FAA-2020-0916; or in person at Docket Operations between 9 a.m. and 5 p.m., Monday through Friday, except Federal holidays. The AD docket contains this AD, the European Aviation Safety Agency (now European Union Aviation Safety Agency) (EASA) ADs, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: David Hatfield, Aerospace Engineer, Aircraft Systems Section, Technical Innovation Policy Branch, Policy & Innovation Division, FAA, 10101 Hillwood Pkwy., Fort Worth, TX 76177; telephone (817) 222-5110; email david.hatfield@faa.gov.

SUPPLEMENTARY INFORMATION:

Discussion

The FAA issued a notice of proposed rulemaking (NPRM) to amend 14 CFR part 39 by adding an AD that would apply to Airbus Helicopters Model AS332C, AS332C1, AS332L, AS332L1, AS332L2, EC 155B, EC155B1, EC225LP, and SA330J helicopters with window extraction tape with snap fasteners installed. The NPRM published in the Federal Register on October 22, 2020 (85 FR 67313). The NPRM proposed to require inspecting each internal and external snap fastener to determine whether they unbutton by hand. For external snap fasteners that do not unbutton by hand, the NPRM proposed to require replacing the male part of the snap fastener and installing self-gripping tape if it still does not unbutton by hand. Thereafter, the NPRM proposed to require a repetitive inspection of the external extraction tape and self-gripping tape and replacing any tape that is cracked, torn, disintegrated, worn, or missing, and replacing the snap fasteners. For internal snap fasteners that do not unbutton by hand, the NPRM proposed to require installing self-gripping tape and replacing the snap fasteners. The proposed requirements were intended to prevent failure of a window to jettison, preventing occupants from exiting the helicopter during an emergency.

The NPRM was prompted by EASA AD No. 2015-0149, dated July 23, 2015 (EASA AD 2015-0149), to correct an unsafe condition for Airbus Helicopters Model AS 322 and EC 225 LP helicopters; EASA AD No. 2015-0168, dated August 13, 2015 (EASA AD 2015-0168), to correct an unsafe condition for Airbus Helicopters Model EC 155 B and EC 155 B1 helicopters; and EASA AD No. 2015-0169, dated August 13, 2015 (EASA AD 2015-0169), to correct an unsafe condition for Airbus Helicopters Model SA330 J helicopters, equipped with an extraction tape fitted with “press-studs” (snap fasteners) on the windows. Each EASA AD was issued by EASA, which is the Technical Agent for the Member States of the European Union. EASA advises of difficulty unbuttoning the extraction tape during the manufacturing of a helicopter. Investigation concluded that the difficulty was caused by a bad male/female coupling, possibly resulting from miscrimping. This difficulty is known to have occurred on two additional helicopters. EASA states this condition, if not detected and corrected, could prevent the jettisoning of the helicopter window, possibly affecting the evacuation of passengers during an emergency situation. For these reasons, EASA AD 2015-0149, EASA AD 2015-0168, and EASA AD 2015-0169 require inspecting each press-stud located on the extraction tapes of the window jettisoning system and depending on the findings, installing self-gripping tape and replacing the press-studs.

Comments

The FAA gave the public the opportunity to participate in developing this final rule, but the FAA did not receive any comments on the NPRM or on the determination of the cost to the public.

FAA's Determination

These helicopters have been approved by EASA and are approved for operation in the United States. Pursuant to the FAA's bilateral agreement with the European Union, EASA has notified the FAA of the unsafe condition described in its AD. The FAA is issuing this AD after evaluating all of the information provided by EASA and determining the unsafe condition exists and is likely to exist or develop on other helicopters of these same type designs and that air safety and the public interest require adopting the AD requirements as proposed.

Related Service Information Under 1 CFR Part 51

The FAA reviewed Airbus Helicopters Alert Service Bulletin (ASB) No. AS332-56.00.10, Revision 0, dated July 16, 2015, for Model AS332-series helicopters; ASB No. EC155-56A006, Revision 0, dated August 10, 2015, for Model EC155-series helicopters; ASB No. EC225-56A008, Revision 0, dated July 16, 2015, for Model EC225LP helicopters; and ASB No. SA330-56.02, Revision 0, dated August 10, 2015, for Model SA330J helicopters. This service information specifies procedures to inspect the internal and external press-studs and to install self-gripping tape for press-studs that do not unbutton or are difficult to unbutton. This service information also specifies procedures to replace internal press-studs that are difficult to unbutton and a repetitive inspection for affected external press-studs until they are replaced.

This service information is reasonably available because the interested parties have access to it through their normal course of business or by the means identified in the ADDRESSES section.

Costs of Compliance

The FAA estimates that this AD affects 72 helicopters of U.S. Registry. Labor rates are estimated at $85 per work-hour. Based on these numbers, the FAA estimates that operators may incur the following costs in order to comply with this AD.

Inspecting the snap fasteners takes about 1 work-hour for a cost of $85 per helicopter and $6,120 for the U.S. fleet. Installing self-gripping tape takes about 0.3 work-hour and parts cost $200 for a cost of $226 per window. Inspecting the tape takes about 0.3 work-hour for a cost of $26 per window per inspection cycle. Replacing the extraction tape or self-gripping tape takes about 1 work-hour and parts cost $200 for a total of $285 per window. Replacing a snap fastener takes about 1 work-hour and parts cost $200 for a total of $285 per snap fastener.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended].

2. The FAA amends § 39.13 by adding the following new airworthiness directive:

2021-05-06 Airbus Helicopters: Amendment 39-21449; Docket No. FAA-2020-0916; Product Identifier 2015-SW-055-AD.

(a) Applicability

This airworthiness directive (AD) applies to Airbus Helicopters Model AS332C, AS332C1, AS332L, AS332L1, AS332L2, EC 155B, EC155B1, EC225LP, and SA330J helicopters, certificated in any category, with window extraction tape with snap fasteners installed.

(b) Unsafe Condition

This AD defines the unsafe condition as failure of a snap fastener to unbutton. This condition could result in failure of the window to jettison, preventing occupants from exiting the helicopter during an emergency.

(c) Effective Date

This AD becomes effective April 19, 2021.

(d) Compliance

You are responsible for performing each action required by this AD within the specified compliance time unless it has already been accomplished prior to that time.

(e) Required Actions

Within 50 hours time-in-service (TIS), inspect each internal and external snap fastener to determine if it can be unbuttoned by hand.

Note 1 to the introductory text of paragraph (e): Airbus Helicopters refers to the snap fastener as a “press-stud.”

(1) If all internal and external snap fasteners can be unbuttoned by hand, no further action is required by this AD.

(2) If an external snap fastener does not unbutton by hand:

(i) Before further flight, replace the male part of the snap fastener and determine if the snap fastener can be unbuttoned by hand force. If the snap fastener still does not unbutton by hand, before further flight, install self-gripping tape.

(ii) Thereafter, at intervals not to exceed 15 hours TIS, inspect the external extraction tape and self-gripping tape for a crack, a tear, disintegration, or wear. If the extraction tape or self-gripping tape has a crack, a tear, any disintegration, wear, or is missing, before further flight, replace the tape. Replacing the extraction tape or self-gripping tape does not terminate this repetitive inspection.

(iii) Within 100 hours TIS, replace each external snap fastener by following the Accomplishment Instructions, paragraph 3.B.4., of Airbus Helicopters Alert Service Bulletin (ASB) No. AS332-56.00.10, Revision 0, dated July 16, 2015 (ASB AS332-56.00.10); ASB No. EC155-56A006, Revision 0, dated August 10, 2015 (ASB EC155-56A006); ASB No. EC225-56A008, Revision 0, dated July 16, 2015 (ASB EC225-56A008); or ASB No. SA330-56.02, Revision 0, dated August 10, 2015 (ASB SA330-56.02), as applicable to your model helicopter. Replacing the external snap fastener terminates the repetitive inspection requirements specified in paragraph (e)(2)(ii) of this AD.

(3) If an internal snap fastener does not unbutton by hand:

(i) Before further flight, install self-gripping tape by following the Accomplishment Instructions, paragraph 3.B.3., of AS332-56.00.10, ASB EC155-56A006, ASB EC225-56A008, or ASB SA330-56.02, as applicable to your model helicopter.

(ii) Within 900 hours TIS, replace each internal snap fastener by following the Accomplishment Instructions, paragraph 3.B.5., of ASB AS332-56.00.10, ASB EC155-56A006, ASB EC225-56A008, or ASB SA330-56.02, as applicable to your model helicopter.

(f) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager, send it to the attention of: David Hatfield, Aerospace Engineer, Aircraft Systems Section, Technical Innovation Policy Branch, Policy & Innovation Division, FAA, 10101 Hillwood Pkwy., Fort Worth, TX 76177; telephone (817) 222-5110. Information may be emailed to: 9-AVS-AIR-730-AMOC@faa.gov.

(2) Before using any approved AMOC, notify your appropriate principal inspector, or lacking a principal inspector, the manager of the local flight standards district office/certificate holding district office.

(g) Additional Information

The subject of this AD is addressed in European Aviation Safety Agency (now European Union Aviation Safety Agency) (EASA) AD No. 2015-0149, dated July 23, 2015; EASA AD No. 2015-0168, dated August 13, 2015; and EASA AD No. 2015-0169, dated August 13, 2015. You may view the EASA ADs on the internet at https://www.regulations.gov in Docket No. FAA-2020-0916.

(h) Subject

Joint Aircraft Service Component (JASC) Code: 5600, Window/Windshield System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin (ASB) No. AS332-56.00.10, Revision 0, dated July 16, 2015.

(ii) Airbus Helicopters ASB No. EC155-56A006, Revision 0, dated August 10, 2015.

(iii) Airbus Helicopters ASB No. EC225-56A008, Revision 0, dated July 16, 2015.

(iv) Airbus Helicopters ASB No. SA330-56.02, Revision 0, dated August 10, 2015.

(3) For service information identified in this AD, contact Airbus Helicopters, 2701 N Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email fedreg.legal@nara.gov, or go to: https://www.archives.gov/federal-register/cfr/ibr-locations.html.

Issued on February 18, 2021.
Gaetano A. Sciortino,
Deputy Director for Strategic Initiatives, Compliance & Airworthiness Division, Aircraft Certification Service.

[FR Doc. 2021-05144 Filed 3-12-21; 8:45 am]

BILLING CODE 4910-13-P